DEPARTMENT OF THE INTERIOR

Fish and Wildlife Service

[FWS-R8-ES-2015-N127; FXES11120800000-156-FF08EVEN00]

Proposed Low-Effect Habitat Conservation Plan for the Endangered Smith's Blue Butterfly for Repair of Five Bridges, Point Sur State Historic Park, Monterey County, California

AGENCY: U.S. Fish and Wildlife Service, Interior.

ACTION: Notice of availability; request for comment.

SUMMARY: We, the U.S. Fish and Wildlife Service (Service) have received an application from the Monterey District of the California Department of Parks and Recreation (CDPR, applicant) for a 10-year incidental take permit under the Endangered Species Act of 1973, as amended (Act). The proposed permit would authorize take of the federally endangered Smith's blue butterfly (Euphilotes enoptes smithi) incidental to otherwise lawful activities associated with the repair and reconstruction of five existing timber bridges located along the access roads to the Point Sur Light Station and Lighthouse at the Point Sur State Historic Park (PSSHP).

The Service's proposed action is the issuance of a permit to the CDPR for a low-effect habitat conservation plan (HCP) for incidental take of Smith's blue butterfly. We are requesting comments on the applicant's permit application and on our preliminary determination that the proposed HCP qualifies as a low-effect HCP, eligible for a categorical exclusion under the National Environmental Policy Act (NEPA) of 1969, as amended. The basis for this determination is discussed in the Environmental Action Statement (EAS) and the associated low-effect screening form, which are available for public review, along with the draft HCP.

DATES: Written comments should be received on or before August 10, 2015.

ADDRESSES: You may download a copy of the HCP, draft Environmental Action Statement, Low-Effect Screening Form, and related documents on the Internet at http://www.fws.gov/ventura, or you may request documents by U.S. mail or phone (see below). Please address written comments to Stephen P. Henry, Field Supervisor, Ventura Fish and Wildlife Office, U.S. Fish and Wildlife Service, 2493 Portola Road, Suite B, Ventura, California 93003, (805) 644-1766. Comments may also be sent by facsimile to (805) 644-3958.

FOR FURTHER INFORMATION CONTACT: Lena Chang, Fish and Wildlife Biologist, at the above address or by calling (805) 644-1766.

SUPPLEMENTARY INFORMATION:

Background

The Smith's blue butterfly was listed as endangered by the Service on June 1, 1976. Section 9 of the Act (16 U.S.C. 1531 et seq.) and its implementing regulations prohibit the “take” of fish or wildlife species listed as endangered or threatened. “Take” is defined under the Act to include the following activities: “[T]o harass, harm, pursue, hunt, shoot, wound, kill, trap, capture, or collect, or to attempt to engage in any such conduct” (16 U.S.C. 1532); however, under section 10(a)(1)(B) of the Act, we may issue permits to authorize incidental take of listed species. “Incidental Take” is defined by the Act as take that is incidental to, and not the purpose of, carrying out of an otherwise lawful activity. Regulations governing incidental take permits for threatened and endangered species are, respectively, in the Code of Federal Regulations at 50 CFR 17.32 and 17.22. Issuance of an incidental take permit also must not jeopardize the existence of federally listed fish, wildlife, or plant species.

However, take of listed plants is not prohibited under the Act unless such take would violate State law. As such, take of plants cannot be authorized under an incidental take permit. Plant species may be included on a permit in recognition of the conservation benefits provided them under a habitat conservation plan. All species included in the incidental take permit would receive assurances under our “No Surprises” regulations (50 CFR 17.22(b)(5) and 17.32(b)(5)). In addition to meeting other criteria, actions undertaken through implementation of the HCP must not jeopardize the continued existence of federally listed plant or animal species.

The Point Sur Lighthouse and Light Station are located on the Big Sur Coast in Monterey County, California at the Point Sur State Historic Park (PSSHP), located approximately 135 miles south of San Francisco and 23 miles south of the City of Monterey via California State Highway 1. This lighthouse has been in continuous operation since 1889 and is accessible by a paved service road that leads to the top of Moro Rock at Point Sur and crosses five timber bridges in need of maintenance and repair. The PSSHP consists of four parcels managed by the CDPR. Collectively, these four parcels measure approximately 72 acres.

Surveys for both the larval and adult life stages of the Smith blue butterfly have been performed at PSSHP. Despite an intensive search effort, no life stages were observed; however, weather conditions may have hindered the surveys. Smith's blue butterfly life stages have been observed within dispersal distance of PSSHP and habitat at PSSHP is present; therefore, the Smith's blue butterfly is assumed present at the site.

The proposed HCP and associated incidental take permit would authorize take of the Smith's blue butterfly. This take would be incidental to the CDPR's proposed replacement and repair of the five bridges, installation of permanent erosion control mats, and storm drain improvements, as well as future routine maintenance activities for the access road and its associated ditches. It would also cover revegetation activities that would occur at the bridge repair sites and other locations adjacent to the service road as well as at the dunes mitigation site located east and northeast of the base of Moro Rock. Impacts to Smith's blue butterfly from project-related activities will be primarily limited to small work areas associated with repairs to the five bridges and erosion control measures. Additional impacts would occur due to storm water improvements and periodic routine road and ditch maintenance. The total area of impact on Smith's blue butterfly habitat would be approximately 10,196 square feet (0.2341 acre).

The CDPR proposes to implement general and specific conservation measures designed to avoid or minimize take of Smith's blue butterfly. To mitigate for unavoidable impacts, the CDPR proposes to restore 3.6 acres of northern foredunes at the dunes mitigation site near the base of Moro Rock. Management goals include removal and control of invasive vegetation, erosion control; restoration of the northern foredune habitat including revegetation of Smith's blue butterfly seacliff buckwheat (Eriogonum parvifolium) habitat at a 3:1 ratio; and revegetation of other dune plants endemic to the dunes at PSSHP.

Two alternatives to the proposed action are considered in the HCP. Under the No Action Alternative, the proposed project would not occur and an incidental take permit would not be issued by the Service. Two of the access bridges to the Point Sur Lighthouse would remain closed to all vehicular traffic. The conditions of the remaining bridges would continue to deteriorate, and existing erosion and storm water issues would not be corrected. Conservation measures described in the HCP would not be implemented and the restoration of the 3.6-acre dune mitigation site would not occur; therefore, the No Action Alternative is considered to have less conservation value to the covered species than the proposed project and accompanying HCP. Under the Redesigned Project Alternative, the areas of impact would be reduced at the five impact areas located along the access roads, which would likely result in reduced take of Smith's blue butterfly; however, smaller work areas would not allow the CDPR to properly repair the five timber bridges and correct the erosion and storm water issues.

We are requesting comments on our preliminary determination that the CDPR's proposed project will have minor or negligible effects on the Smith's blue butterfly and that the plan qualifies as a low-effect HCP as defined by our Habitat Conservation Planning Handbook (Service 1996). We base our determinations on three criteria: (1) Implementation of the proposed project as described in the HCP would result in minor or negligible effects on federally listed, proposed, and/or candidate species and their habitats; (2) implementation of the HCP would result in minor negligible effects on other environmental values or resources; and (3) HCP impacts, considered together with those of other past, present, and reasonably foreseeable future projects, would not result in cumulatively significant effects. In our analysis of these criteria, we have made a preliminary determination that the approval of the HCP and issuance of an incidental take permit qualify for categorical exclusions under the NEPA (42 U.S.C. 4321 et seq.), as provided by the Department of Interior Manual (516 DM 2 Appendix 2 and 516 DM 8); however, based upon our review of public comments that we receive in response to this notice, this preliminary determination may be revised.

Next Steps

We will evaluate the permit application, including the plan and comments we receive, to determine whether the application meets the requirements of section 10(a) of the Act. We will also evaluate whether issuance of the section 10(a)(1)(B) permit would comply with section 7 of the Act by conducting intra-Service section 7 consultation for the plan. We will use the result of this consultation, in combination with the above findings, in our final analysis to determine whether or not to issue the permit. If the requirements are met, we will issue a permit to the applicant for the incidental take of the Smith's blue butterfly. We will make the final permit decision no sooner than 30 days after the date of this notice.

Public Review

We provide this notice under section 10(c) of the Act and the NEPA public involvement regulations (40 CFR 1500.1(b), 1500.2(d), and 1506.6). We are requesting comments on our determination that the applicant's proposal will have a minor or negligible effect on the Smith's blue butterfly and that the plan qualifies as a “low-effect” HCP as defined by our 1996 Habitat Conservation Planning Handbook.

Public Comments

If you wish to comment on the permit applications, plans, and associated documents, you may submit comments by any one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10 of the Act (16 U.S.C. 1531 et seq.) and NEPA regulations (40 CFR 1506.6).

Dated: July 2, 2015.
Stephen P. Henry,
Field Supervisor, Ventura Fish and Wildlife Office, Ventura, California.

[FR Doc. 2015-16765 Filed 7-8-15; 8:45 am]

BILLING CODE 4310-55-P